ENVIRONMENTAL PROTECTION AGENCY

[Regional Docket Nos. V-2013-12 and V-2013-15, FRL-9955-87-Region 5]

Clean Air Act Operating Permit Program; Action on Petition for Objection to State Operating Permit for Appleton Coated LLC

AGENCY: Environmental Protection Agency (EPA).

ACTION: Notice of final Order on petition to object to Clean Air Act Title V operating permit.

SUMMARY: This document announces that the Environmental Protection Agency (EPA) Administrator has denied two petitions asking EPA to object to a Title V operating permit issued by the Wisconsin Department of Natural Resources (WDNR) to Appleton Coated LLC (Appleton Coated). The first petition was submitted by the Sierra Club, the Clean Water Action Council, and the Midwest Environmental Defense Center (Sierra Club Petition). The second petition was submitted by Appleton Coated and the Wisconsin Paper Council (Appleton Coated/WPC Petition). Sections 307(b) and 505(b)(32) of the Clean Air Act (Act) provide that a petitioner may ask for judicial review of those portions of the petition that EPA denies in the United States Court of Appeals for the appropriate circuit. Any petition for review shall be filed within 60 days from the date this notice appears in the Federal Register, pursuant to section 307 of the Act.

ADDRESSES: You may review copies of the final Order, the petition, and other supporting information at the EPA Region 5 Office, 77 West Jackson Boulevard, Chicago, Illinois 60604. If you wish to examine these documents, you should make an appointment at least 24 hours before the day you would like to visit. Additionally, the final Order for the Appleton petition is available electronically at: https://www.epa.gov/title-v-operating-permits/title-v-petition-database.

FOR FURTHER INFORMATION CONTACT: Genevieve Damico, Chief, Air Permits Section, Air Programs Branch, Air and Radiation Division, EPA, Region 5, 77 West Jackson Boulevard AR-18J, Chicago, Illinois 60604, telephone (312) 353-4761.

SUPPLEMENTARY INFORMATION: The Act affords EPA a 45-day period to review and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On October 28, 2013, EPA received the Sierra Club Petition which alleged that WDNR applied an erroneous interpretation of the “routine maintenance, repair, and replacement” exemption for a superheater boiler tube replacement project from 2005, and that the project resulted in a significant net emissions increase triggering New Source Review (NSR). On November 19, 2013, EPA received the Appleton Coated/WPC Petition which alleged that the permit is deficient because it lacks a permit shield from NSR requirements for the 2005 superheater boiler tube replacement project.

On October 14, 2016, the Administrator issued an Order denying both petitions. The Order explains the reasons behind EPA's conclusion.

Dated: November 18, 2016.
Robert A. Kaplan,
Acting Regional Administrator, Region 5.

[FR Doc. 2016-28880 Filed 11-30-16; 8:45 am]

BILLING CODE 6560-50-P